DEPARTMENT OF TRANSPORTATION

National Highway Traffic Safety Administration

Reports, Forms and Record Keeping Requirements; Agency Information Collection Activity Under OMB Review

AGENCY: National Highway Traffic Safety Administration, DOT

ACTION: Correction; extension of comment period.

SUMMARY: On June 13, 2001, we published a Notice to report that we had submitted to the Office of Management and Budget (OMB) a request for an extension of a previously approved collection of information. That notice is contained in notice document 01-14834, is located at 66 FR 31974, and has OMB control number 2127-0609. The approved collection of information pertained to a statutorily-mandated rule requiring NHTSA to establish by regulation what constitutes a “reasonable time” and a sufficient manner of “correction” under the Criminal Penalty Safe Harbor Provision in section 5 of the Transportation Recall Enhancement, Accountability, and Documentation (TREAD) Act (Pub. L. 106-414).

The Notice published on June 13, 2001, contained an error which we believe requires correction. The purpose of this Notice is to notify the public as to the error, to correct it, and to provide the public with an additional thirty (30) days within which to submit any comments in relation to the collection of information. Specifically, the Notice of June 13, 2001 is modified in the following manner:

On page 31975, in the fifth paragraph of the first column, the section labeled “Affected Public” was previously published with the following text: “foreign manufacturers of motor vehicles and motor vehicle equipment located outside of the United States, which are importing these items into the United States.” This section should be changed to read as follows: “This collection of information would apply to any person who seeks a “safe harbor” from potential criminal liability under 49 U.S.C. 30170. Thus, the collection of information could apply to motor vehicle and motor vehicle equipment manufacturers, any officers or employees thereof, and other persons who respond, or have a duty to respond, to an information provision requirement pursuant to 49 U.S.C. 30166 or a regulation, requirement, request or order issued thereunder.”

In light of the above change, the date for comments to be submitted, which was previously published in the Federal Register in the last paragraph of the third column on page 31974, is extended and changed from “on or before July 13, 2001” to read “on or before August 6, 2001.”

As requested in the Notice of June 13, 2001, comments are to be submitted to the Office of Information and Regulatory Affairs, Office of Management and Budget, 725-17th Street, NW., Washington, DC 20503, Attention NHTSA Desk Officer.

Issued on: June 28, 2001.
John Womack,
Acting Chief Counsel.

[FR Doc. 01-16781 Filed 7-3-01; 8:45 am]

BILLING CODE 4910-59-P